SOCIAL SECURITY ADMINISTRATION

[Docket No. SSA-2020-0057]

Privacy Act of 1974; Matching Program

AGENCY: Social Security Administration (SSA).

ACTION: Notice of a new matching program.

SUMMARY: In accordance with the provisions of the Privacy Act, as amended, this notice announces a new matching program with the Office of Personnel Management (OPM). This matching agreement (agreement) sets forth the terms, conditions, and safeguards under which OPM will disclose civil service benefit and payment data to SSA. SSA is legally required to offset specific benefits by a percentage of civil service benefits received (Spousal and Survivors benefits, Supplemental Security Income (SSI) benefits, and Retirement and Disability Insurance Benefits are offset by a percentage of the recipients' Federal Government pension benefits). SSA administers the Old Age, Survivors, Disability Insurance (OASDI), SSI, and Special Veterans' Benefits (SVB) programs. SSA will use the match results under this agreement to meet its civil service benefit offset obligations. Appendices A, B, C, and D of this agreement contain specific information on the matching programs that SSA will conduct under this agreement. SSA's Office of the Chief Actuary (OCA) will also use OPM's data for statistical and research purposes in tracking the size of, and impact on, subpopulations of government annuitants affected by the Government Pension Offset (GPO), the Windfall Elimination Provision (WEP), and in cost estimates of proposals to change the two provisions.

DATES: The deadline to submit comments on the proposed matching program is July 23, 2021. The matching program will be applicable on September 11, 2021, or once a minimum of 30 days after publication of this notice has elapsed, whichever is later. The matching program will be in effect for a period of 18 months.

ADDRESSES: You may submit comments by any one of three methods—internet, fax, or mail. Do not submit the same comments multiple times or by more than one method. Regardless of which method you choose, please state that your comments refer to Docket No. SSA-2020-0057 so that we may associate your comments with the correct regulation.

Caution: You should be careful to include in your comments only information that you wish to make publicly available. We strongly urge you not to include in your comments any personal information, such as Social Security numbers or medical information.

1. Internet: We strongly recommend that you submit your comments via the internet. Please visit the Federal eRulemaking portal at http://www.regulations.gov. Use the Search function to find docket number SSA-2020-0057 and then submit your comments. The system will issue you a tracking number to confirm your submission. You will not be able to view your comment immediately because we must post each submission manually. It may take up to a week for your comments to be viewable.

2. Fax: Fax comments to (410) 966-0869.

3. Mail: Matthew Ramsey, Executive Director, Office of Privacy and Disclosure, Office of the General Counsel, Social Security Administration, G-401 WHR, 6401 Security Boulevard, Baltimore, MD 21235-6401, or emailing Matthew.Ramsey@ssa.gov. Comments are also available for public viewing on the Federal eRulemaking portal at http://www.regulations.gov, or in person, during regular business hours, by arranging with the contact person identified below.

FOR FURTHER INFORMATION CONTACT: Interested parties may submit general questions about the matching program to Andrea Huseth, Division Director, Office of Privacy and Disclosure, Office of the General Counsel, Social Security Administration, G-401 WHR, 6401 Security Boulevard, Baltimore MD 21235-6401, at telephone: (410) 966-5855, or emailing Andrea.Huseth@ssa.gov.

SUPPLEMENTARY INFORMATION: None.

Matthew Ramsey,
Executive Director, Office of Privacy and Disclosure, Office of the General Counsel.

Participating Agencies

SSA and OPM.

Authority for Conducting the Matching Program

The legal authority for SSA to conduct this matching activity for SSI purposes is section 1631(e)(1)(B) and (f) of the Social Security Act (Act) (42 U.S.C. 1383(e)(1)(B) and (f)), and for SVB purposes, is section 806 of the Act (42 U.S.C. 1006). The legal authority for SSA to conduct this matching activity for OASDI includes Section 224 of the Act (42 U.S.C. 424a), which provides for the reduction of Social Security disability benefits when the disabled worker is also entitled to a Public Disability Benefit (PBD). Also, Section 215a(7)(A) of the Act (42 U.S.C. 415) requires a modification to the computation formula reducing the Primary Insurance Amount of a retired and disabled worker entitled to a pension from employment not covered under Social Security. Section 202k(5)(A) (42 U.S.C. 402) provides for the reduction of spouse's and survivor's benefits by a percentage of a pension received based on work not covered by Social Security.

Section 1631(f) of the Act (42 U.S.C. 1383(f)) requires Federal agencies to furnish SSA with information necessary to verify eligibility. Section 224(h)(1) of the Act (42 U.S.C. 424a(h)(1)) requires any Federal agency to provide SSA with information in its possession that SSA may require for the purposes of making a timely determination of the amount of reduction under section 224 of the Act (42 U.S.C. 424a).

Purpose(s)

This agreement sets forth the terms, conditions, and safeguards under which OPM will disclose civil service benefit and payment data to SSA. SSA is legally required to offset specific benefits by a percentage of civil service benefits received (Spousal and Survivors benefits, SSI benefits, and Retirement and Disability Insurance Benefits are offset by a percentage of the recipients' Federal Government pension benefits). SSA administers the OASDI, SSI, and SVB programs. SSA will use the match results under this agreement to meet its civil service benefit offset obligations. Appendices A, B, C, and D of this agreement contain specific information on the matching programs that SSA will conduct under this agreement. SSA's OCA will also use OPM's data for statistical and research purposes in tracking the size of, and impact on, subpopulations of government annuitants affected by the GPO, the WEP, and in cost estimates of proposals to change the two provisions.

Categories of Individuals

The individuals whose information is involved in this matching program are those individuals who are receiving civil service benefits and payments, and either Spousal and Survivors benefits, SSI or SVB benefits, or Retirement and Disability Insurance benefits.

Categories of Records

OPM will provide SSA with an electronic file containing civil service benefit and payment data from the annuity and survivor master file. Each month, OPM will provide SSA with an electronic file that will include updated payment information for new civil service annuitants and annuitants whose civil service annuity has changed. This monthly file contains approximately 25,000 records. OPM will provide SSA with the entire master annuity file of approximately 2.7 million records once yearly for the month of the civil service cost-of-living allowance. OPM will furnish SSA with the following civil service benefit and payment data: Payment status code; prefix; name; Social Security number (SSN); Social Security verification code; date of birth; award date; civil service claim number; first potential month and year of eligibility; date of eligibility indicator; first month, day, and year of entitlement; disability indicator; Federal Insurance Contributions Act covered months indicator; total service months; amount of current gross civil service benefits; effective date (month, day, and year) of civil service amount; SSNs for disabled children; retroactive payments; date of death; payments that are currently coded `special pay'; OPM code that indicates OPM used pre-1957 military service in the benefit computations; actual military service dates that OPM used in computing the OPM pension amount; OPM code for voluntary contributions; amount of the pension from voluntary contributions; months of employment after 1956 not covered by Social Security that are used to determine the pension; period of employment upon which pension is based; and Federal Employees Retirement System transfer case data.

SSA will attempt to verify the SSNs furnished by OPM using the SSA Enumeration System database and the individuals' name, date of birth, and SSN. SSA will only use verified SSNs in the matches with its systems of records (SOR). SSA will match the SSN-verified OPM data against the Supplemental Security Record or Master Beneficiary Record to identify: SSI/SVB recipients who are also receiving a civil service pension; individuals who may be subject to PDB offset; and beneficiaries subject to a Federal pension offset.

System(s) of Records

OPM will provide SSA with electronic files from the OPM SOR published as OPM/Central-1 (Civil Service Retirement and Insurance Records) at 73 FR 15013 (March 20, 2008), as amended at 80 FR 74815 (November 30, 2015). SSA will conduct the match using the individual's SSN, name, and date of birth on both the OPM file and SSA's databases covered under the following SSA SORs: The Master Files of Social Security Number (SSN) Holders and SSN Applications (Enumeration System), 60-0058, as published at 75 FR 82121 (December 29, 2010), as amended at 78 FR 40542 (July 5, 2013), 79 FR 8780 (February 13, 2014), 83 FR 31250-31251 (July 3, 2018), and 83 FR 54969 (November 1, 2018); the Master Beneficiary Record (MBR), 60-0090, as published at 71 FR 1826 (January 11, 2006), as amended at 72 FR 69723 (December 10, 2007), 78 FR 40542 (July 5, 2013), 83 FR 31250-31251 (July 3, 2018), and 83 FR 54969 (November 1, 2018); and the Supplemental Security Income Record and Special Veterans Benefits (SSR/SVB), 60-0103, as published at 71 FR 1830 (January 11, 2006), as amended at 72 FR 69723 (December 10, 2007), 83 FR 31250-31251 (July 3, 2018), and 83 FR 54969 (November 1, 2018).

[FR Doc. 2021-13137 Filed 6-22-21; 8:45 am]

BILLING CODE 4191-02-P